ENVIRONMENTAL PROTECTION AGENCY

[EPA-HQ-OPP-2017-0006; FRL-9970-50]

Receipt of Several Pesticide Petitions Filed for Residues of Pesticide Chemicals in or on Various Commodities

AGENCY: Environmental Protection Agency (EPA).

ACTION: Notice of filing of petitions and request for comment.

SUMMARY: This document announces the Agency's receipt of several initial filings of pesticide petitions requesting the establishment or modification of regulations for residues of pesticide chemicals in or on various commodities.

DATES: Comments must be received on or before January 16, 2018.

ADDRESSES: Submit your comments, identified by docket identification (ID) number and the pesticide petition number (PP) of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Robert McNally, Biopesticides and Pollution Prevention Division (7511P), main telephone number: (703) 305-7090; email address: BPPDFRNotices@epa.gov., Michael Goodis, Registration Division (7505P), main telephone number: (703) 305-7090; email address: RDFRNotices@epa.gov, Steve Knizner, Antimicrobials Division (7510P), main telephone number: (703) 305-7090; email address: ADFRNotices@epa.gov, Michael Goodis. The mailing address for each contact person is: Office of Pesticide Programs, Environmental Protection Agency, 1200 Pennsylvania Ave. NW, Washington, DC 20460-0001.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed under FOR FURTHER INFORMATION CONTACT for the division listed at the end of the pesticide petition summary of interest.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the Agency taking?

EPA is announcing its receipt of several pesticide petitions filed under section 408 of the Federal Food, Drug, and Cosmetic Act (FFDCA), 21 U.S.C. 346a, requesting the establishment or modification of regulations in 40 CFR part 180 for residues of pesticide chemicals in or on various food commodities. The Agency is taking public comment on the requests before responding to the petitioners. EPA is not proposing any particular action at this time. EPA has determined that the pesticide petitions described in this document contain the data or information prescribed in FFDCA section 408(d)(2), 21 U.S.C. 346a(d)(2); however, EPA has not fully evaluated the sufficiency of the submitted data at this time or whether the data support granting of the pesticide petitions. After considering the public comments, EPA intends to evaluate whether and what action may be warranted. Additional data may be needed before EPA can make a final determination on these pesticide petitions.

Pursuant to 40 CFR 180.7(f), a summary of each of the petitions that are the subject of this document, prepared by the petitioner, is included in a docket EPA has created for each rulemaking. The docket for each of the petitions is available at http://www.regulations.gov.

As specified in FFDCA section 408(d)(3), 21 U.S.C. 346a(d)(3), EPA is publishing notice of the petition so that the public has an opportunity to comment on this request for the establishment or modification of regulations for residues of pesticides in or on food commodities. Further information on the petition may be obtained through the petition summary referenced in this unit.

III. Amended Tolerance Exemptions for Non-Inerts (Except PIPS)

1. PP 7F8547. (EPA-HQ-OPP-2017-0526). Bayer CropScience LP, 2 T.W. Alexander Dr., Research Triangle Park, NC 27709, requests to amend an exemption from the requirement of a tolerance in 40 CFR 180.1257 for residues of the nematocide Purpureocillium lilacinum (synonym Paecilomyces lilacinus) strain 251 in or on all agricultural commodities to update the taxonomic description. The petitioner believes no analytical method is needed because the active ingredient has only been renamed and remains unchanged. Contact: BPPD.

IV. Amended Tolerances for Non-Inerts

1. PP 7E8597. (EPA-HQ-OPP-2017-0476). Interregional Research Project No. 4 (IR-4), Rutgers, The State University of New Jersey, 500 College Road East, Suite 201 W, Princeton, NJ 08540, requests that the existing tolerance in 40 CFR 180.355(a) General. (1) for the combined residues of the herbicide bentazon (3-isopropyl-1H-2,1,3-benzothiadiazin-4(3H)-one-2,2-dioxide) and its 6- and 8-hydroxy metabolites in or on pea, dry, seed be increased from 1.0 ppm to 3.0 ppm. Upon establishment of the amended tolerance, the Petitioner requests that the previously established tolerance for bentazon on pea, dry, seed at 1.0 ppm is removed. Adequate enforcement methodolog (gas liquid chromatography (GLC) methods are available for the determination of residues of bentazon and its 6- and 8-hydroxy metabolites in/on plant commodities. The limit of detection is 0.05 ppm for each regulated compound. Contact: RD

2. PP 7F8592. EPA-HQ-OPP-2017-0538. Syngenta Crop Protection, LLC 410 Swing Road, Greensboro, NC 27409, requests to amend the tolerance in 40 CFR part 180 for residues of the fungicide fludioxonil in or on Sugar beet at 5.0 parts per million (ppm). The method Syngenta Crop Protection Method AG-597B was used and has passed an Agency petition method validation for several commodities, and is currently the enforcement method to measure and evaluate the chemical fludioxonil. Contact: RD.

V. New Tolerance Exemptions for Inerts (Except Pips)

1. PP IN-11063. (EPA-HQ-OPP-2017-0474). Toxcel, LLC, on behalf of Lanxess Corporation, 111 RIDC Park West Drive, Pittsburgh, PA 15275, requests to establish an exemption from the requirement of a tolerance for residues of aspartic acid, N-(1,2-dicarboxyethyl)-, tetrasodium salt (CAS Reg. No. 144538-83-0) when used as an inert ingredient in antimicrobial pesticide formulations (food-contact surface sanitizing solutions) under 40 CFR 180.940(a). The petitioner believes no analytical method is needed because it is not required for an exemption from the requirement of a tolerance. Contact: RD

2. PP IN-11066. (EPA-HQ-OPP-2017-0541). SciReg, Inc., 12733 Director's Loop, Woodbridge, VA 22192 on behalf of Solvay USA Inc., requests to establish an exemption from the requirement of a tolerance for residues of 2-isobutyl-2-methyl-1,3-dioxolane-4-methanol (CAS Reg. No. 5660-53-7) when used as an inert ingredient (solvent/cosolvent) in pesticide formulations applied to growing crops and raw agricultural commodities after harvest under 40 CFR 180.910and when used as an inert ingredient in antimicrobial pesticide formulations (food-contact surface sanitizing solutions) under 40 CFR 180.940(a). The petitioner believes no analytical method is needed because it is not required for an exemption from the requirement of a tolerance. Contact: RD.

VI. New Tolerance Exemptions for Non-Inerts (Except Pips)

1. PP 7E8567. (EPA-HQ-OPP-2017-0525). Interregional Research Project Number 4 (IR-4), Rutgers, The State University of New Jersey, 500 College Rd. East, Suite 201 W, Princeton, NJ 08540, requests to establish an exemption from the requirement of a tolerance in 40 CFR part 180 for residues of the microbial pesticide Pepino mosaic virus, strain CH2, isolate 1906 in or on tomato. The petitioner believes no analytical method is needed because Pepino mosaic virus, strain CH2, isolate 1906 is a naturally occurring, low risk plant virus that is not related to any animal or human pathogen and is not known to be able to survive in animal or human tissue. Contact: BPPD.

2. PP 4F8325. (EPA-HQ-OPP-2017-0063). ICA Trinova, Inc., 1 Beavers Street, Suite B, Newnan, GA 30263, requests to establish an exemption from the requirement of a tolerance for residues of the antimicrobial, sodium chlorite, in or on tomatoes. The petitioner believes no analytical method is needed because no residues of chlorate were detected in tomato puree from tomatoes treated post-harvest with gaseous chlorine dioxide generated from sodium chlorite. Contact: AD.

3. PP 7F8546. (EPA-HQ-OPP-2017-0460). Envera, LLC, 220 Garfield Ave., West Chester, PA 19380, requests to establish an exemption from the requirement of a tolerance in 40 CFR part 180 for residues of the bactericide and fungicide Bacillus amyloliquefaciens strain ENV503 in or on all food commodities. The petitioner believes no analytical method is needed because an exemption from the requirement of a tolerance is being proposed. Contact: BPPD.

4. PP 7F8599. (EPA-HQ-OPP-2017-0487). Suntton International Inc., 901 H St., Suite 610, Sacramento, CA 95814, requests to establish an exemption from the requirement of a tolerance in 40 CFR part 180 for residues of the plant regulator 24-epibrassinolide in or on all agricultural commodities. The petitioner believes no analytical method is needed because it is expected that, when used as proposed, 24-epibrassinolide would not result in residues that are of toxicological concern. Contact: BPPD.

VII. New Tolerances for Non-Inerts

1. PP 7E8609 (EPA-HQ-OPP-2017-0532) OAT Agrio. Ltd. 1-3-1 Kanda Ogawa-machi, Chiyoda-ku Tokyo 101-0052, Japan c/o Landis International R&D Management 3185 Madison Highway, P.O. Box 5126, Valdosta, Georgia, 31603-5126, requests to establish a tolerance in 40 CFR part 180 for residues of the miticide, cyflumetofen (2-methoxyethyl α-cyano-α-[4-(1,1-dimethylethyl)phenyl]-β-oxo-2-(trifluoromethyl)benzenepropanoate) in or on tea at 40 parts per million (ppm). The high performance liquid chromatography-tandem mass spectrometry method is used to measure and evaluate the chemicals, cyflumetofen and 2-trifluoromethylbenzoic acid. Contact: RD.

2. PP 4F8325. (EPA-HQ-OPP-2017-0063). ICA Trinova, Inc., 1 Beavers Street, Suite B, Newnan, GA 30263, requests to establish a tolerance in 40 CFR part 180 for residues of the antimicrobial, sodium chlorite, in or on cantaloupes at 1.5 parts ppm. Liquid chromatography—mass spectroscopy (LC/MS) is used to measure and evaluate the chemical chlorate. Adequate enforcement methodology (LC/MS) is available to enforce the tolerance expression. The method may be requested from: Chief, Analytical Chemistry Branch, Environmental Science Center, 701 Mapes Rd., Ft. Meade, MD 20755-5350; telephone number: (410) 305-2905; email address: residuemethods@epa.gov. Contact: AD.

3. PP 7F8558. (EPA-HQ-OPP-2017-0233). Bayer CropScience, 2 T. W. Alexander Drive, Research Triangle Park, NC 27709 requests to establish a tolerance in 40 CFR part 180 for residues of the insecticide, tetraniliprole in or tuberous and corm vegetables, crop group 1C at 0.015 ppm; potato, wet peel at 0.02 ppm; leafy vegetables, crop group 4-16 at 20 ppm; brassica head and stem vegetables, crop group 5-16 at 1.5 ppm; fruiting vegetables, crop group 8-10 at 0.40 ppm; tomato paste at 1.5 ppm; citrus fruit, orange subgroup 10-10A at 0.50 ppm; citrus fruit, lemon/lime subgroup 10-10B at 0.80 ppm; citrus fruit, grapefruit subgroup 10-10C at 0.50 ppm; citrus oil at 4.0 ppm; pome fruit, crop group 11-10 at 0.40 ppm; stone fruit, crop group 12-12 at 1.0 ppm; plum, dried (prune) at 2.0 ppm; small fruit, vine climbing subgroup, except fuzzy kiwi, crop subgroup 13-07F at 1.5 ppm; tree nuts, crop group 14-12 at 0.03 ppm; almond hulls at 4.0 ppm; corn, field, grain at 0.015 ppm; corn, field, forage at 4.0 ppm; corn, field, stover at 15 ppm; corn, pop, grain at 0.015 ppm; corn, pop, stover at 15 ppm; corn, sweet, kernel plus cobs with husks removed at 0.01 ppm; corn, sweet, forage at 6.0 ppm; corn, sweet, stover at 20 ppm; cottonseed, crop group 20C at 0.40 ppm; cotton, gin byproducts at 30 ppm; soybean seed at 0.20 ppm; soybean hulls at 0.60 ppm; aspirated grain fractions at 45 ppm; soybean forage at 0.07 ppm; soybean hay at 0.20 ppm; alfalfa, forage and hay at 0.06 ppm; forage, fodder and straw of cereal grains, crop group 16, except field, pop and sweet corn at 0.10 ppm; foliage of legume vegetables, crop group 7, except soybeans at 0.03 ppm; milk at 0.06 ppm; fat of cattle, horses, sheep and goats at 0.30 ppm; muscle of cattle, horses, sheep and goats at 0.03 ppm; meat by-products of cattle, horses, sheep and goats at 0.30 ppm. The high performance liquid chromatography-electrospray ionization/tandem mass spectrometry (LC/MS/MS) is used to measure and evaluate the chemical. Contact: RD.

Authority: 21 U.S.C. 346a.

Dated: November 14, 2017.
Hammad A. Syed,
Acting Director, Information Technology and Resources Management Division, Office of Pesticide Programs.

[FR Doc. 2017-27103 Filed 12-14-17; 8:45 am]

BILLING CODE 6560-50-P